DEPARTMENT OF HOMELAND SECURITY

Coast Guard

33 CFR Part 110

[Docket Number USCG-2016-0989]

RIN 1625-AA01

Anchorage Regulations; Passagassawakeag River, Belfast, ME; Corrections

AGENCY: Coast Guard, DHS.

ACTION: Correcting amendments.

SUMMARY: On July 8, 2019, the Coast Guard published a final rule that established two special anchorage areas in the Passagassawakeag River in the vicinity of Belfast, ME, effective August 7, 2019. That rule contained errors in the coordinates describing the boundaries of these special anchorage areas, causing parts of them to extend into the navigable channel. This document corrects those errors.

DATES: Effective April 20, 2020.

FOR FURTHER INFORMATION CONTACT: If you have questions about this document, call or email Mr. Craig D. Lapiejko, Coast Guard First District Waterways Management Branch, telephone 617-223-8351, email Craig.D.Lapiejko@uscg.mil.

SUPPLEMENTARY INFORMATION: On July 8, 2019, the Coast Guard published a final rule titled “Anchorage Regulations; Passagassawakeag River, Belfast, ME” (84 FR 32269). Effective August 7, 2019, it established Special Anchorage Area A and Special Anchorage Area B in the Passagassawakeag River, Belfast Bay, Belfast, Maine.

On August 15, 2019, the Coast Guard was made aware of a discrepancy between the boundaries of the Belfast special anchorage areas and the navigable channel by a cartographer from the National Oceanic and Atmospheric Administration (NOAA). We have reviewed the information provided by NOAA's cartographic production team and agree that there is a discrepancy between the boundaries of the Belfast special anchorage areas and the navigable channel.

In the notice of proposed rulemaking we published to start the process of designating these special anchorage areas, we made it clear that they are intended to reduce the risk of vessel collisions and to promote safe and efficient travel in the navigable channel of the Passagassawakeag River to the mouth of Belfast Bay (82 FR 46004, October 3, 2017). The potential of vessels anchoring in the navigable channel is contrary to waterway safety and coordinates identifying any portion of either special anchorage area in the navigable channel are errors that must be corrected promptly to reduce the risk of vessel collisions in the navigable channel. As we stated in the final rule, we made no changes from the proposed rule (84 FR 32269, 32270, July 8, 2019). This document corrects the coordinates in 33 CFR 110.4(b) that place any of the boundaries of Special Anchorage Area A and Special Anchorage Area B in the navigable channel of the Pessagassawakeag River.

We find good cause under 5 U.S.C. 553(d) to make this correction effective on its date of publication. Delaying its effective date would continue the risk of vessel collisions in the navigable channel based on errors in the coordinates describing the special anchorage areas.

List of Subjects in 33 CFR Part 110

Anchorage Regulations.

Accordingly, 33 CFR part 110 is corrected by making the following correcting amendments:

PART 110—ANCHORAGE REGULATIONS

1. The authority citation for part 110 continues to read as follows:

Authority: 33 U.S.C. 471, 2071; 46 U.S.C. 70034; 33 CFR 1.05-1; Department of Homeland Security Delegation No. 0170.1

2. In § 110.4, revise paragraphs (d)(1) and (2) to read as follows:

§ 110.4 Penobscot Bay, Maine.

* * * * *

(d) * * *

(1) Special anchorage area A. All of the waters enclosed by a line beginning at latitude 44°25′47.2458″ N, longitude 069°00′7.5943″ W; thence to latitude 44°25′48″ N, longitude 068°59′57″ W; thence to latitude 44°25′39″ N, longitude 068°59′17″ W; thence to latitude 44°25′33″ N, longitude 068°59′15″ W; thence to latitude 44°25′30″ N, longitude 068°58′48″ W; thence to latitude 44°25′23.9162″ N, longitude 069°58′54.0838″ W; thence to latitude 44°25′42.7050″ N, longitude 069°59′55.2686″ W thence to the point of beginning.

(2) Special anchorage area B. All of the waters enclosed by a line beginning at latitude 44°25′45.3309″ N, longitude 069°00′09.0265″ W; thence to latitude 44°25′41.1720″ N, longitude 068°59′58.2017″ W; thence to latitude 44°25′27.7645″ N, longitude 068°59′23.3130″ W; thence to latitude 44°25′18.2707″ N, longitude 068° 58′58.6083″ W; thence to latitude 44°24′56″ N, longitude 068°59′23″ W; thence to latitude 44°25′ 21.0416″ N, longitude 068°59′37.5019″ W; thence to latitude 44°25′35.5413″ N, longitude 068°59′58.1933″ W; thence to the point of beginning.

* * * * *

Dated: April 3, 2020.
A. J. Tiongson,
Rear Admiral, U.S. Coast Guard, Commander, First Coast Guard District.

[FR Doc. 2020-07618 Filed 4-17-20; 8:45 am]

BILLING CODE 9110-04-P